DEPARTMENT OF THE INTERIOR

Minerals Management Service

Outer Continental Shelf (OCS) Civil Penalties

AGENCY: Minerals Management Service (MMS), Interior.

ACTION: Notice summarizing OCS Civil Penalties Paid, January 1, 2000, through December 31, 2000.

SUMMARY: This notice provides a listing of civil penalties paid January 1, 2000, through December 31, 2000, for violations of the OCS Lands Act. The goal of the MMS OCS Civil Penalties Program is to assure safe and clean operations on the OCS. Through the pursuit, assessment, and collection of civil penalties and referrals for the consideration of criminal penalties, the program is designed to encourage compliance with OCS statutes and regulations. The purpose of publishing the penalties summary is to provide information to the public on violations of special concern in OCS operations and to provide an additional incentive for safe and environmentally sound operations.

FOR FURTHER INFORMATION CONTACT: Greg Gould (Program Coordinator), (703) 787-1591.

SUPPLEMENTARY INFORMATION: The Oil Pollution Act of 1990 (OPA 90) strengthened section 24 of the OCS Lands Act Amendments of 1978. Subtitle B of OPA 90, titled “Penalties,” increased the amount of the civil penalty from a maximum of $10,000 to a maximum of $20,000 per violation for each day of noncompliance. More importantly, in cases where a failure to comply with applicable regulations constitutes or constituted a threat of serious, irreparable, or immediate harm or damage to life (including fish and other aquatic life); property; any mineral deposit; or the marine, coastal, or human environment; OPA 90 provided the Secretary of the Interior (Secretary) with the authority to assess a civil penalty without regard to the requirement of expiration of a period of time allowed for corrective action.

On August 8, 1997 (62 FR 42668), MMS published new regulations implementing the civil penalty provisions of the OCS Lands Act. Written in “plain English,” the new question-and-answer format provides a better understanding of the OCS civil penalty process. In addition, the provisions of OPA 90 require the Secretary to adjust the maximum civil penalty to reflect any increases in the Consumer Price Index. The new rule increased the maximum civil penalty to $25,000 per day, per violation. Please note, subsequent to publishing the new regulations, MMS made several corrections and amendments, including the appeals procedures. These were published at 63 FR 42711, 8/11/98; 64 FR 9066, 2/24/99; 64 FR 9065, 2/24/99 and 64 FR 26257, 5/13/99.

Between August 18, 1990, and July 31, 2001, MMS initiated 363 civil penalty reviews. The MMS assessed 263 civil penalties, collected $7,497,405 in fines, 55 cases were dismissed, and 45 cases are pending.

On September 1, 1997, the Associate Director for Offshore Minerals Management issued a notice informing lessees and operators of Federal oil, gas, and sulphur leases on the OCS that MMS will annually publish a summary of OCS civil penalties paid. The annual summary will highlight the identity of the party, the regulation violated, and the amount paid. The following table provides a listing of the penalties paid between January 1, 2000, and December 31, 2000. Please note that MMS published a direct final rule (5/29/98, 63 FR 29477) that renumbers each section in 30 CFR part 250. A quarterly update of this list, along with additional information related to the renumbering of the regulations, is posted on the MMS worldwide web homepage, http://www.mms.gov.

The following acronyms are used in the table:

API RP—American Petroleum Institute Recommended Practice

BOP—blow out preventer

BSL—burner safety low

ESD—emergency shut down

FSV—flow safety valve

INC's—Incidents of Noncompliance

LAH—level safety high alarm

LSH—level safety high

MAWP—maximum allowable working pressure

PSHL—pressure safety high/low

PSH—pressure safety high

PSL—pressure safety low

PSV—pressure safety valve

Psi—pounds per square inch

SCSSV—surface-controlled subsurface safety valve

SDV—shut down valve

SSSD—subsurface safety device

SSV—surface safety valve

TSE—temperature safety element

OCS Civil Penalties Paid Calendar Year 2000
Operator name and case No. | Violation and date(s) | Penalty paid and date paid | Regulation(s) violated (30 CFR Section)
Conn Energy, Inc., G-1996-24 | The SSSD's for several wells were not tested in the required timeframe. 12/13/95-1/12/96 | $42,000, 10/24/2000 | 250.124(a)(1)(iii)
Vastar Resources, Inc., G-1997-22 | A flowline FSV was determined to be leaking beyond the allowable rate and had not been repaired or replaced since the leak was discovered. 2/16/97-3/7/97 | $19,000, 9/12/2000 | 250.124(a)(5)
Conoco Inc., G-1997-37 | A fatality occurred when unsafe and unworkmanlike conditions existed. There were tripping hazards, and rig personnel were not wearing fall protection. 1/20/97 | $20,000, 5/25/2000 | 250.20(a)
Torch Oil & Gas Company, G-1997-55 | Failure to maintain an operable sump system resulted in a slick 1 mile by 40 yards. The parts building (classified area) was not equipped with a gas detection system. The sump pump was inoperable and the platform was not equipped with an automatic sump system. 11/7/95, 11/29/96 | $29,500, 1/14/2000 | 250.40(a), 250.40(b)(4), 250.123(b)(9)
Shell Frontier Oil & Gas Inc., G-1997-56 | PSV on Fuel Gas Scrubber set above MAWP and not annually tested. 7/31/96 | $15,000, 7/11/2000 | 250.123(b)(1)(i), 250.124(a)(2)
Pogo Producing Company, G-1998-14 | During an unannounced inspection, two rig personnel were observed not wearing fall protection gear while working near a 7′ × 7′ hole. A follow-up inspection revealed a second 4′ × 8′ hole, which was not flagged, barricaded or monitored. 10/3/97, 10/23/97 | $17,500, 4/17/2000 | 250.20(a)
Statoil Exploration (US) Inc., G-1998-20 | The SCSSV's for Wells E-2, E-8 and E-11 were bypassed. 7/27/97 | $30,000, 2/7/2000 | 250.123(c)(1)
Aviva America, Inc., G-1998-21 | The SCSSV was bypassed on Well JA-7, 1/14/97 | $5,000, 2/4/2000 | 250.123(c)(1)
Forcenergy Inc., G-1998-27 | PSL on test separator was backed all the way off such that it would not trip, therefore, bypassed. 3/3/98 | $15,000, 3/24/2000 | 250.123(c)(1)
Vastar Resources, Inc., G-1998-31 | The gas detector sensors in the shale shaker room were covered with plastic and tape, which rendered them inoperable. 10/1/97-10/2/97 | $15,000, 5/5/2000 | 250.60(e)(3)
Santa Fe Snyder Corporation, G-1998-36 | BSL was bypassed at line heater panel while line heater was in service. LSH microswitch was disconnected from the compressor panel, resulting in a bypass of the LSH on the suction scrubber. 3/12/98 | $20,000, 1/7/2000 | 250.123(c)(1)
The Houston Exploration Company, G-1998-37 | During an annual inspection, the inspector detected numerous violations that have been submitted for a compliance review. They are (1) P-103, for the bypassing of the SCSSV for the well; (2) two P-280's, the operator failed to conduct a test of the SCSSV's on well's A-2 and A-3 in a timely manner; and (3) P-231, the ESD station for the heliport had been disconnected. 9/1/97-3/26/98 | $37,500, 2/10/2000 | 250.124(a)(1)(i), 250.123(c)(1), 250.123(b)(4)
Aviva America, Inc., G-1998-41 | The automatic pump on the emergency sump had been disconnected. The LAH on the emergency sump was out of service. 1/10/98 | $30,000, 11/28/2000 | 250.123(c)(1), 250.40(b)(4)
Aviva America, Inc., G-1998-42 | The PSHL on Well JA-7 was bypassed, and the gas detection system for the laundry room was inoperative. 2/17/98 | $24,000, 11/28/2000 | 250.123(b)(9), 250.123(c)(1)
Basin Exploration, Inc. G-1998-46 | P-261 was issued for well A-1D not being equipped with a pump through plug after being shutin for more than 6 months, P-280 was issued due to well A-4 SCSSV being inoperable (leaking) and not being replaced. 1/5/9-4/16/98 | $30,971, 5/12/2000 | 250.124(a)(1)(i)
Kerr-McGee Corporation, G-1998-55 | The SSV relay for well A-6 was bypassed for 3 days. 2/4/98-2/6/98 | $7,500, 3/2/2000 | 250.123(c)(1)
Samedan Oil Corporation G-1998-58 | Not conducting operations in a safe and workmanlike manner. After completing his elevated work and disconnecting his safety line, a workman fell through an opening in the deck grating 18 feet to the deck below while descending the BOB stack and was injured. 6/8/98 | $25,000, 1/18/2000 | 250.20(a)
Ocean Energy, Inc., G-1998-65 | Lease came on production 4/22/98. The announced initial inspection of 5/13/98, revealed the following violations: A 4′2′ hole in the production deck not properly barricaded; workers not wearing fall protection gear observed in vicinity of the hole. Inoperable gas detection system in living quarters and motor control console building; two men sleeping on platform since 4/22/98. 4/22/98-5/13/98 | $49,500, 6/9/200 | 250.20(a), 250.123(b)(9), 250.124(a)(8)
Amoco Production Company, G-1999-1 | The SCSSV's for Wells Nos. D-1 and D-19 were bypassed for 3 days. 7/15/98-7/15/98 | $18,000, 1/13/2000 | 250.803(c)(1)
Vastar Resources, Inc., G-1999-2 | The operator failed to repair the leaking accumulator pump. The accumulator system has less than 1000 psi, with the pump running constantly. 10/13/98 | $25,000, 2/2/2000 | 250.120(a)
Vastar Resources, Inc., G-1999-4 | The General Quarters' flame, heat and smoke detection system was bypassed. 1/30/99-2/1/99 | $21,000, 1/18/2000 | 250.803(c)(1)
Ocean Energy, Inc., G-1999-5 | Two fatalities resulted when the crane on the platform was not operated and maintained in accordance with the provisions of the API RP 2D 5/10/98 | $25,000, 3/3/2000 | 250.20(c)
Chevron U.S.A. Inc., G-1999-6 | The SDV on the bi-directional pipeline was bypassed 12/30/98 | $22,000, 5/17/2000 | 250.1004(b)(8)
SOCO Offshore, Inc., G-1999-7 | The automatic SSV for Well A-3 was in bypass at the master control panel. 2/19/99 | $10,000, 2/4/2000 | 250.803(c)(1)
Energy Partners, Ltd., G-1999-8 | The air valves in the backup air pumps were in the closed position. 4/2/99 | $10,000, 2/9/2000 | 250.515(c)(2)
Phillips Petroleum Company, G-1999-9 | INC's were issued for not having ESD stations on the boat landings of the platform. 1/26/99 | $10,000, 3/3/2000 | 250.803(b)(4)
Chevron U.S.A. Inc., G-1999-10 | Sump pump block valve on discharge line bypassed on the compressor platform. Sump pump fuel supply valve bypassed on the Auxiliary 2 platform. 4/20/99 | $5,000, 5/18/2000 | 250.803(c)(1)
The Louisiana Land and Exploration Company, G-1999-11 | No Remote BOP Control Station for the Diverter System. 10/2/98-10/6/98 | $30,000, 3/22/2000 | 250.406(d)(3)
Stone Energy Corporation, G-1999-12 | LSH on Flare/Vent scrubber by-passed. 6/1/8 | $15,000, 3/17/2000 | 250.123(c)(1)
Conn Energy, Inc., G-1999-13 | The PSHL on Well A-1 was bypassed. The LSH on the fuel gas scrubber was bypassed on the ESD stations on the boat landing were inoperable. 6/24/98 | $41,000, 10/2/2000 | 250.123(c)(1), 250.123(b)(4)
Amoco Production Company, G-1999-15 | The PSH on the interstage suction scrubber was not tested for nearly 2 years. 6/17/97-2/24/99 | $12,000, 4/29/2000 | 250.124(a)(3)
Taylor Energy Company, G-1999-17 | The sump pile pump was inoperable, and the supply and discharge were manually closed off, placing the sump pile pump in a nonoperable bypassed mode. 2/5/99 | $6,000, 5/2/2000 | 250.300(b)(4), 250.803(c)(1)
Forcenergy Inc., G-1999-18 | LSH was bypassed and not tested on the Floatation Cell. 7/18/98-9/29/98 | $9,000, 6/23/2000 | 250.802(b)
Burlington Resources Offshore, G-1999-20 | Well E-10 (PSHL) found to be bypassed on the panel board and not flagged. 5/3/99 | $13,000, 4/13/2000 | 250.803(c)(1)
Forcenergy Inc., G-1999-21 | Multiple safety devices on each of 10 process components were found bypassed. Pollution from the floatation cell occurred when the ESD was activated. 3/15/99 | $161,000, 7/11/2000 | 250.803(c)(1), 250.300(a)
Kelley Oil Corporation, G-1999-22 | Pollution occurred when condensate spilled out of the skimmer's vent. There was no PSV on the skimmer pump, the supply gas to the skimmer pump was blocked, and the LSH failed to operate because it had not been set/tested properly. One hundred fifty gallons of condensate was released into the Gulf of Mexico. The PSHL on the skimmer pump was bypassed. Also, the SCSSV's on two wells had not been tested within the required timeframe. 5/17/99-5/18/99 | $44,000, 7/13/2000 | 250.803(c)(1), 250.300(a)
Bois d'Arc Offshore Ltd., G-1999-23 | Fuel Gas Master Relay and Sump Pump Master Relay were found to be pinned out of service and not flagged or monitored. 12/5/98 | $20,000, 4/13/2000 | 250.803(c)(1)
Chevron U.S.A. Inc., G-1999-24 | Gas Supply in By-pass on Sump Pump. 10/28/98 | $20,000, 3/27/2000 | 250.803(c)(1)
Kelley Oil Corporation, G-1999-26 | The designated person operating the subject platform was not T-2 certified, even though he was engaged in installing, inspecting, testing, and maintaining safety devices. 6/17/98 | $20,000, 5/19/2000 | 250.214
Stone Energy Corporation, G-1999-28 | The boat landing ESD stations were bypassed and blocked out of service by a closed manual isolation block valve located on the sub-cellar deck exit stairway to the boat landings. 7/4/99-7/8/99 | $17,500, 9/28/2000 | 250.803(c)(1)
Equitable Production Company, G-1999-30 | The PSV on the treater fuel gas scrubber on the A Platform was bypassed and blocked out of service by a closed manual block valve under the PSV. The PSV on the test separator on the C Platform was bypassed and blocked out of service by a closed manual block valve under the PSV. 7/26/99 | $24,000, 9/11/2000 | 250.803(c)(1)
Vastar Resources, Inc., G-1999-31 | The master relay for Well A-6 was found bypassed (pinned out) on the well panel, thus rendering the SSV inoperable. 6/2/99 | $15,000, 3/20/2000 | 250.803(c)(1)
Stone Energy Corporation, G-1999-32 | Relay for the burner fuel SDV on the glycol reboiler panel was bypassed. 8/24/99-8/25/99 | $8,000, 4/11/2000 | 250.803(c)(1)
Matrix Oil & Gas, Inc., G-1999-37 | Diesel was discovered leaking into the Gulf of Mexico. 9/9/99 | $19,000, 8/11/2000 | 250.300(a)
Murphy Exploration & Production Company, G-2000-1 | Manual block valve in the ESD line discovered in a closed position, thus rendering the ESD station at the boat landing inoperable. The TSE for the measurement separators were blocked out of service due to a closed manual block valve in the TSE line. 1/31/99-2/2/99, 2/2/99-2/9/99 | $18,500, 8/2/2000 | 250.803(c)(1), 250.803(b)(4)
Forcenergy Inc., G-2000-4 | The SCSSV for Wells A-24 and A-26 was bypassed. 10/18/99 | $27,000, 6/26/2000 | 250.803(c)(1)
Energy Resource Technology, G-2000-5 | The boat landing ESD was disconnected from the facility's ESD system. 7/8/99-8/13/99 | $92,500, 6/28/2000 | 250.803(c)(1)
Anadarko Petroleum, G-2000-6 | The purge system in the mud-logging unit was shut off. 8/12/99 | $8,500, 7/26/2000 | 250.120(a)
Matrix Oil & Gas, Inc., G-2000-7 | INC was issued for leaking condensate into Gulf waters from the vent boom. 11/16/99 | $18,000, 11/2/2000 | 250.300(a)
Union Pacific Resources, G-2000-9 | The ESD station on the A Platform boat landing was bypassed and blocked out of service by a closed manual isolation valve in the stainless steel supply tubing located on the sump tank deck level exit stairway to the boat landing. 11/3/99 | $12,500, 9/22/2000 | 250.803(c)(1)
Newfield Exploration Company, G-2000-10 | The mud logging unit purge system was discovered to be shut off manually on the GLOMAR BALTIC I Drilling Rig Platform. 10/6/99 | $10,000, 12/21/2000 | 250.120(a)
Union Pacific Resources, G-2000-11 | The LSH on the sump tank was bypassed and blocked out of service. 1/2/2000-1/12/2000 | $27,500, 10/18/2000 | 250.803(c)(1)
Samedan Oil Corporation, G-2000-21 | The mud logging unit purge system was discovered to be shut off manually on the ENSCO 55 Drilling Rig. 1/5/2000 | $10,000, 10/18/2000 | 250.120(a)
Bois d'Arc Offshore Ltd., G-2000-22 | The case contained 59 violations that were submitted for review, of which 55 were failure to perform tests of safety devices. Four were the result of safety devices being bypassed. Nine of the violations were not assessed in that they were found not to be a threat. 8/31/98-2/1/00 | $245,000, 10/30/2000 | 250.804(a)(1)(i), 250.804(a)(3), 250.804(a)(4), 250.805(a)(5), 250.804(a)(10), 250.803(c)(1)
Fugro-LCT Inc., G-2000-23 | Company failed to obtain a geophysical permit prior to beginning operations to collect gravity data. 10/28/99-2/4/00 | $13,250, 6/27/2000 | 251.4(a)
Chevron, U.S.A. Inc., G-2000-24 | A well surface-controlled subsurface safety valve was blocked out of service on February 18, 2000. 2/18/2000 | $15,000, 12/20/2000 | 250.803(c)(1)
Burlington Resources Offshore, G-2000-25 | The manual block valve in the fuel supply system piping was found in the open position, thus bypassing the SDV for the fuel gas scrubber. This SDV was not bypassed for startup, maintenance, or testing; it was not flagged, nor was it being monitored. 2/4/2000 | $18,000, 10/19/2000 | 250.803(c)(1)
Texaco Exploration and Production Inc., G-2000-26 | Wells A-1, A-6, and A-8 continued to produce after FSV's failed leakage test 2/29/2000-3/20/2000 | $63,000, 9/20/2000 | 250.804(a)(5)
Exxon Mobil Corporation, G-2000-27 | The PSHL protecting the departing oil pipeline was bypassed. 2/24/2000 | $5,000, 10/2/2000 | 250.1004(b)(3)
Samedan Oil Corporation, G-2000-28 | An employee was working at a height of 15 feet above steel decking without utilizing fall protection gear. 2/26/2000 | $12,000, 10/18/2000 | 250.107(a)
Chevron U.S.A. Inc., G-2000-30 | Crane operator attempted to lift a load exceeding the lifting capacity of the crane; boom fell onto a tool storage building (causing minor damage), and, the basket, remaining attached to the cable, fell into the water. 4/9/2000 | $22,000, 10/17/2000 | 250.108
Chevron U.S.A. Inc., G-2000-33 | Accident occurred on the rig floor. The accident resulted in serious injury to a derrick-hand where he lost two fingers on the right hand and three fingers on the left hand while greasing the crown and air hoist sheaves on the derrick. 3/10/2000 | $25,000, 12/1/2000 | 250.120(a)
AEDC (USA) INC., G-2000-34 | The Condensate Coalescer Blowcase was in bypass on the panel board. 5/6/2000 | $10,000, 11/29/2000 | 250.803(c)(1)
Bois d'Arc Offshore Ltd., G-2000-38 | The SCSSV on the caisson well #4 was found closed on the tree. 12/16/99 | $12,000, 11/21/2000 | 250.803(c)(1)
Vastar Resources, Inc., G-2000-40 | PSV on Well No. A-5 flowline was bypassed. 2/7/2000 | $15,000, 12/12/2000 | 250.803(c)(1)
Aera Energy LLC, P-1999-001 | Pipeline leak detection system was not operated and maintained properly (Ten BBL spill was not covered by final assessment). 6/7/99 | $48,000, 4/25/2000 | 250.122(e)
Total Penalties Paid: 1/1/2000-12/31/2000
66 Cases: $1,780,721

Dated: August 17, 2001.
Carolita U. Kallaur,
Associate Director for Offshore Minerals Management.

[FR Doc. 01-23051 Filed 9-13-01; 8:45 am]

BILLING CODE 4310-MR-P